NATIONAL SCIENCE FOUNDATION

Sunshine Act Meeting

The National Science Board (NSB), pursuant to the National Science Foundation Act and the Government in the Sunshine Act hereby gives notice of the scheduling of a teleconference of the Committee on Strategy (CS) for the transaction of National Science Board business, as follows:

TIME AND DATE: Closed teleconference of the CS, to be held Thursday, September 9, 2021, at 2:00-2:30 p.m. EDT.

PLACE: This meeting will be held by videoconference organized through the National Science Foundation.

STATUS: Closed.

MATTERS TO BE CONSIDERED: Chair's remarks; review and discussion of proposed CS recommendation to the Board for NSF to transmit the National Science Foundation, NSB and Office of the Inspector General FY 2023 budget submissions to the Office of Management and Budget.

CONTACT PERSON FOR MORE INFORMATION: Point of contact for this meeting is: Chris Blair, (703) 292-7000, cblair@nsf.gov. You may find meeting information and updates at https://www.nsf.gov/nsb/meetings/notices.jsp#sunshine.

Chris Blair,
Executive Assistant to the National Science Board Office.

[FR Doc. 2021-19009 Filed 8-30-21; 4:15 pm]

BILLING CODE 7555-01-P